DEPARTMENT OF ENERGY

Federal Energy Regulatory Commission

Combined Notice of Filings #1

Take notice that the Commission received the following electric corporate filings:

Docket Numbers: EC15-161-000.

Applicants: 65HK 8me LLC.

Description: Application for Authorization Under Section 203 of the Federal Power Act, Request for Expedited Consideration and Confidential Treatment of 65HK 8me LLC.

Filed Date: 6/30/15.

Accession Number: 20150630-5451.

Comments Due: 5 p.m. ET 7/21/15.

Take notice that the Commission received the following electric rate filings:

Docket Numbers: ER10-1276-004; ER10-1292-003; ER10-1287-003; ER10-1303-003; ER10-1319-005; ER10-1353-005.

Applicants: Consumers Energy Company, CMS Energy Resource Management Company, Grayling Generation Station Limited Partnership, Genesee Power Station Limited Partnership, CMS Generation Michigan Power, LLC, Dearborn Industrial Generation, L.L.C.

Description: Updated Market Power Analysis for the Central Region of Consumer Energy Company, et al.

Filed Date: 6/30/15.

Accession Number: 20150630-5450.

Comments Due: 5 p.m. ET 8/31/15.

Docket Numbers: ER10-2042-019; ER10-1938-014; ER10-1934-013; ER10-1893-013; ER10-1874-003; ER10-1863-004; ER10-1862-013; ER10-1933-003.

Applicants: Calpine Energy Services, L.P., Calpine Power America—CA, LLC, CES Marketing IX, LLC, CES Marketing X, LLC, Mankato Energy Center, LLC, Power Contract Financing, L.L.C., RockGen Energy, LLC, Pine Bluff Energy, LLC.

Description: Updated Market Power Analysis for Central Region of the Calpine Central MBR Sellers.

Filed Date: 6/30/15.

Accession Number: 20150630-5441.

Comments Due: 5 p.m. ET 8/31/15.

Docket Numbers: ER10-2130-012.

Applicants: Forward Energy LLC.

Description: Triennial Report for Central Region of Forward Energy LLC.

Filed Date: 6/30/15.

Accession Number: 20150630-5439.

Comments Due: 5 p.m. ET 8/31/15.

Docket Numbers: ER10-2136-010.

Applicants: Invenergy Cannon Falls LLC.

Description: Triennial Report for Central Region of Invenergy Cannon Falls LLC.

Filed Date: 6/30/15.

Accession Number: 20150630-5405.

Comments Due: 5 p.m. ET 8/31/15.

Docket Numbers: ER10-2172-025; ER14-2144-004; ER12-2311-012; ER10-1048-022; ER10-2192-024; ER15-1537-001; ER15-1539-001; ER10-2178-024; ER13-1536-008; ER12-2201-012; ER11-2011-021; ER11-2009-021; ER11-3989-017; ER10-1143-021.

Applicants: Baltimore Gas and Electric Company, Beebe 1B Renewable Energy, LLC, Beebe Renewable Energy, LLC, Commonwealth Edison Company, Constellation Energy Commodities Group Maine, LLC, Constellation Energy Services, Inc., Constellation NewEnergy, Inc., Exelon Generation Company, LLC, Harvest II Wind Farm, LLC, Harvest Windfarm, LLC, Michigan Wind 1, LLC, Michigan Wind 2, LLC, PECO Energy Company, Constellation Energy Services of New York, Inc.

Description: Updated Market Power Analysis for the Central Region of the Exelon Central MBRA Entities.

Filed Date: 6/30/15.

Accession Number: 20150630-5358.

Comments Due: 5 p.m. ET 8/31/15.

Docket Numbers: ER10-2738-003.

Applicants: The Empire District Electric Company.

Description: Updated Market Power Analysis of The Empire District Electric Company.

Filed Date: 6/30/15.

Accession Number: 20150630-5348.

Comments Due: 5 p.m. ET 8/31/15.

Docket Numbers: ER10-3069-006; ER10-3070-006.

Applicants: Alcoa Power Generating, Inc., Alcoa Power Marketing LLC.

Description: Updated Market Power Analysis for Central Region of Alcoa Power Generating, Inc. and Alcoa Power Marketing LLC.

Filed Date: 6/30/15.

Accession Number: 20150630-5377.

Comments Due: 5 p.m. ET 8/31/15.

Docket Numbers: ER10-3097-004.

Applicants: Bruce Power Inc.

Description: Updated Market Power Analysis for the Central Region of Bruce Power Inc.

Filed Date: 6/30/15.

Accession Number: 20150630-5434.

Comments Due: 5 p.m. ET 8/31/15.

Docket Numbers: ER11-2105-001.

Applicants: Oklahoma Gas and Electric Company.

Description: Updated Market Power Analysis for Southwest Power Pool, Inc. Balancing Area Authority of Oklahoma Gas and Electric Company.

Filed Date: 6/30/15.

Accession Number: 20150630-5447.

Comments Due: 5 p.m. ET 8/31/15.

Docket Numbers: ER11-2159-005; ER10-2602-012; ER10-2609-011; ER10-2606-011.

Applicants: Verso Maine Energy LLC, NewPage Energy Services LLC, Escanaba Paper Company, Consolidated Water Power Company.

Description: Updated Market Power Analysis for the Central Region of Verso MBR Entities.

Filed Date: 6/30/15.

Accession Number: 20150630-5442.

Comments Due: 5 p.m. ET 8/31/15.

Docket Numbers: ER11-4044-013.

Applicants: Gratiot County Wind LLC.

Description: Triennial Report for Central Region of Gratiot County Wind LLC.

Filed Date: 6/30/15.

Accession Number: 20150630-5440.

Comments Due: 5 p.m. ET 8/31/15.

Docket Numbers: ER11-4046-012.

Applicants: Gratiot County Wind II LLC.

Description: Triennial Report for Central Region of Gratiot County Wind II LLC.

Filed Date: 6/30/15.

Accession Number: 20150630-5415.

Comments Due: 5 p.m. ET 8/31/15.

Docket Numbers: ER12-164-011.

Applicants: Bishop Hill Energy III LLC.

Description: Triennial Report for Central Region of Bishop Hill Energy III LLC.

Filed Date: 6/30/15.

Accession Number: 20150630-5438.

Comments Due: 5 p.m. ET 8/31/15.

Docket Numbers: ER12-645-013.

Applicants: California Ridge Wind Energy LLC.

Description: Triennial Report of California Ridge Wind Energy LLC.

Filed Date: 6/30/15.

Accession Number: 20150630-5437.

Comments Due: 5 p.m. ET 8/31/15.

Docket Numbers: ER15-2085-000.

Applicants: Dow Pipeline Company.

Description: Section 205(d) Rate Filing: Revisions to Market-Based Rate Tariff to be effective 8/29/2015.

Filed Date: 6/30/15.

Accession Number: 20150630-5297.

Comments Due: 5 p.m. ET 7/21/15.

Docket Numbers: ER15-2086-000.

Applicants: California Independent System Operator Corporation.

Description: Section 205(d) Rate Filing: 2015-06-30 CCSF OA—Rate Schedule No. 64 to be effective 7/1/2015.

Filed Date: 6/30/15.

Accession Number: 20150630-5339.

Comments Due: 5 p.m. ET 7/21/15.

Docket Numbers: ER15-2087-000.

Applicants: Consolidated Edison Company of New York, Inc.

Description: Section 205(d) Rate Filing: PASNY Standby Amendment to be effective 7/1/2015.

Filed Date: 6/30/15.

Accession Number: 20150630-5343.

Comments Due: 5 p.m. ET 7/21/15.

Docket Numbers: ER15-2088-000.

Applicants: New England Power Pool Participants Committee.

Description: Section 205(d) Rate Filing: June 30 2015 Membership Filing to be effective 7/1/2015.

Filed Date: 6/30/15.

Accession Number: 20150630-5345.

Comments Due: 5 p.m. ET 7/21/15.

Take notice that the Commission received the following electric reliability filings:

Docket Numbers: RR15-13-000.

Applicants: North American Electric Reliability Corporation.

Description: Petition of North American Electric Reliability Corporation for Approval of Amendments to the Bylaws of Southwest Power Pool, Inc.

Filed Date: 6/30/15.

Accession Number: 20150630-5356.

Comments Due: 5 p.m. ET 7/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2015.
Nathaniel J. Davis, Sr.,
Deputy Secretary.

[FR Doc. 2015-16881 Filed 7-9-15; 8:45 am]

BILLING CODE 6717-01-P